DEPARTMENT OF STATE

[Public Notice 9875]

60-Day Notice of Proposed Information Collection: Annual Report—J-NONIMMIGRANT Exchange Visitor Program

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 10, 2017.

ADDRESSES: Include any address that the public needs to know, such as: Attending a public hearing or meeting, examining any material available for public inspection. For public comments, use the following text:

You may submit comments by any of the following methods:

• Web: Persons with access to the Internet may comment on this notice by going to www.Regulations.gov. You can search for the document by entering “Docket Number: DOS-2017-0004” in the Search field. Then click the “Comment Now” button and complete the comment form.

• Email: JExchanges@State.gov.

• Regular Mail: Send written comments to: U.S. Department of State, ECA/EC, SA-5, Floor 5, 2200 C Street NW., Washington, DC 20522-0505, ATTN: Federal Register Notice Response.

You must include the DS form number (if applicable), information collection title, and the OMB control number in any correspondence.

FOR FURTHER INFORMATION CONTACT: Direct requests for additional information regarding the collection listed in this notice, including requests for copies of the proposed collection instrument and supporting documents, to G. Kevin Saba, Acting Deputy Assistant Secretary for Private Sector Exchange, ECA/EC, SA-5, Floor 5, Department of State, 2200 C Street NW., Washington, DC 20522-0505, who may be reached via JExchanges@state.gov.

SUPPLEMENTARY INFORMATION:

• Title of Information Collection: Annual Report—J-NONIMMIGRANT Exchange Visitor Program.

• OMB Control Number: 1405-0151.

• Type of Request: Revision of a Currently Approved Collection.

• Originating Office: Bureau of Educational and Cultural Affairs, Office of Private Sector Exchange, ECA/EC.

• Form Number: DS-3097.

• Respondents: Designated J-NONIMMIGRANT program sponsors.

• Estimated Number of Respondents: 1,400.

• Estimated Number of Responses: 1,400.

• Average Time per Response: 2 hours.

• Total Estimated Burden Time: 2,800 hours.

• Frequency: Annually.

• Obligation to Respond: Required to Obtain or Retain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Annual reports from designated program sponsors assist the Department in oversight and administration of the J-NONIMMIGRANT visa program. The reports provide qualitative data on the number of exchange participants an organization sponsored annually per category of exchange. The reports also provide a summary of the activities in which exchange visitors were engaged and indicate information about program effectiveness. Program sponsors include government agencies, academic institutions, and private sector not-for-profit and for-profit entities. Annual reports are completed through the Student and Exchange Visitor Information System (SEVIS) and then printed and signed by a sponsor official, and sent to the Department by email or postal mail.

G. Kevin Saba,
Acting Deputy Assistant Secretary for Private Sector Exchange, Bureau of Educational and Cultural Affairs, U.S. Department of State.

[FR Doc. 2017-02588 Filed 2-7-17; 8:45 am]

BILLING CODE 4710-05-P